DEPARTMENT OF LABOR

Occupational Safety and Health Administration

[Docket No. ICR-1218-0216(2000)]

Manufacturer's Certification of Modifications Made to Construction Aerial Lifts; Extension of the Office of Management and Budget's (OMB) Approval of Information-Collection (Paperwork) Requirements

AGENCY: Occupational Safety and Health Administration (OSHA); Labor.

ACTION: Notice of an opportunity for public comment.

SUMMARY: OSHA solicits comments concerning the proposed reduction in the burden hours and extension of the information-collection requirements contained in the Aerial Lifts Standard (29 CFR 1926.453(a)(2)).

Request for Comment

The Agency has a particular interest in comments on the following issues:

• Whether the information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and transmission techniques.

DATES: Submit written comments on or before October 13, 2000.

ADDRESSES: Submit written comments to the Dock Office, Docket No. ICR-12218-0216(2000), Occupational Safety and Health Administration, U.S. Department of Labor, Room N-2625, 200 Constitution Avenue, NW., Washington, DC 20210; telephone: (202) 693-2350. Commenters may transmit written comments of 10 pages or less in length by facsimile to (202) 693-1648.

FOR FURTHER INFORMATION CONTACT: Kathleen M. Martinez, Directorate of Policy, Occupational Safety and Health Administration, U.S. Department of Labor, Room N-3641, 200 Constitution Avenue, NW., Washington, DC 20210; telephone: (202) 693-2444. A copy of the Agency's Information-Collection Request (ICR) supporting the need for the information-collection requirements in the Aerial Lifts Standard is available for inspection and copying in the Docket Office, or you may request a mailed copy by telephoning Kathleen M. Martinez at (202) 694-2444. For electronic copies of the ICR on the Aerial Lifts Standard, contact OSHA on the Internet at http://www.osha.gov.

SUPPLEMENTARY INFORMATION:

I. Background

The Department of Labor, as part of its continuing effort to reduce paperwork and respondent burden, conducts a preclearance consultation program to provide the general public and Federal agencies with the opportunity to comment on proposed and continuing information-collection requirements in accordance with the Paperwork Reduction Act of 1995 (PRA-95) (44 U.S.C. 3506(c)(2)(A)). This program ensures that information is in the desired format, reporting burden (time and costs) is minimal, collection instruments are clearly understood, and OSHA's estimate of the information burden is correct. The Occupational Safety and Health Act of the 1970 (the Act) authorizes information collection by employers as necessary or appropriate for enforcement of the Act or for developing information regarding the causes and prevention of occupational injuries, illnesses, and accidents (29 U.S.C. 657).

The only information-collection requirement in the Aerial Lifts Standard is a certification provision, paragraph (a)(2). This provision requires an employer who modifies an aerial lift for uses not documented by the lift manufacturer to obtain from that manufacturer, or an equivalent entity (such as nationally-recognized laboratory), a written certificate stating that: The modification conforms to the applicable provisions of ANSI A92.2-1969 and the Aerial Lifts Standard; and the modified aerial lift is at least as safe as it was before modification.

II. Proposed Action

OSHA proposes to reduce the burden hours and extend the collection-of-information (paperwork) requirement in the Aerial Lifts Standard. Regarding the reduced paperwork requirement, the Agency decreased the estimated amount of time for maintaining and disclosing the certification record from 5 minutes to 3 minutes. After obtaining comments to this proposal, OSHA will summarize the comments and will include this summary in its request to OMB to extend the approval of the information-collection requirement in the Aerial Lifts Standard.

Type of Review: Extension of currently approved information-collection requirements.

Title: Aerial Lifts (29 CFR 1926.453(a)(2)).

OMB Number: 1218-0216.

Affected Public: Business or other for-profit; Federal Government; State, Local or Tribal governments.

Number of Respondents: 60.

Frequency: On occasion.

Average Time Per Response: 3 minutes.

Total Burden Hours: 3 hours.

III. Authority and Signature

Charles N. Jeffress, Assistant Secretary of Labor for Occupational Safety and Health, directed the preparation of this notice. The authority for this notice is the Paperwork Reduction Act of 1995 (44 U.S.C. 3506) and Secretary of Labor's Order No. 6-96 (62 FR 11).

Signed at Washington, DC on August 4, 2000.
Charles N. Jeffress,
Assistant Secretary of Labor.

[FR Doc. 00-20546 Filed 8-11-00; 8:45 am]

BILLING CODE 4510-26-M